DEPARTMENT OF THE TREASURY

Submission for OMB Review; Comment Request

August 17, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 24, 2007 to be assured of consideration.

Alcohol and Tobacco Tax and Trade Bureau (TTB)

OMB Number: 1513-0041.

Type of Review: Revision.

Title: Monthly Report of Processing Operations-TTB REC 5110/03.

Forms: TTB 5110.28.

Description: The information collected accounts for and verifies the processing of distilled spirits in bond. It is used to monitor proprietor activities, in auditing plant operations, compiling statistics. We have revised the form by adding a box for an EIN.

Respondents: Business and other for profits.

Estimated Total Burden Hours: 5,737 hours.

OMB Number: 1513-0036.

Type of Review: Extension.

Title: Signing Authority for Corporate Officials.

Form: TTB 5100.1.

Description: TTB F 5100.1 is used to document the authority of an individual or office to sign for the corporation in TTB matters. The form identifies the corporation, the individual or, office authorized to sign, and documents the authorization. We have revised the form by rearranging the instructions and PRA Notice.

Respondents: Business and other for profits.

Estimated Total Burden Hours: 250 hours.

Clearance Officer: Frank Foote, (202) 927-9347, Alcohol and Tobacco Tax and Trade Bureau, Room 200 East, 1310 G Street, NW., Washington, DC 20005.

OMB Reviewer: Alexander T. Hunt, (202) 395-7316, Office of Management and Budget, Room 10235, New Executive Office Building, Washington, DC 20503.

Robert Dahl,
Treasury PRA Clearance Officer.

[FR Doc. E7-16728 Filed 8-23-07; 8:45 am]

BILLING CODE 4810-31-P